SMALL BUSINESS ADMINISTRATION

[Disaster Declaration #15153 and #15154]

Missouri Disaster Number MO-00082

AGENCY: U.S. Small Business Administration.

ACTION: Amendment 1.

SUMMARY: This is an amendment of the Presidential declaration of a major disaster for Public Assistance Only for the State of MISSOURI (FEMA-4317-DR), dated 06/02/2017.

Incident: Severe Storms, Tornadoes, Straight-line Winds, and Flooding.

Incident Period: 04/28/2017 through 05/11/2017.

DATES: Applicable 07/13/2017.

Physical Loan Application Deadline Date: 08/01/2017.

Economic Injury (EIDL) Loan Application Deadline Date: 03/02/2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of MISSOURI, dated 06/02/2017, is hereby amended to include the following areas as adversely affected by the disaster.

Primary Counties: Boone, Cape Girardeau, Mississippi, New Madrid, Pemiscot, Sainte Genevieve, Scott.

All other information in the original declaration remains unchanged.

(Catalog of Federal Domestic Assistance Numbers 59002 and 59008)

Rafaela Monchek,
Acting Associate Administrator for Disaster Assistance.

[FR Doc. 2017-15358 Filed 7-20-17; 8:45 am]

BILLING CODE 8025-01-P